SURFACE TRANSPORTATION BOARD

[Docket No. AB 1313]

Great Redwood Trail Agency—Adverse Discontinuance of Lease & Operating Authority—Northwestern Pacific Railway Co., in Humboldt, Trinity and Mendocino Counties, Cal.

On June 7, 2022, the Great Redwood Trail Agency (GRTA), formerly known as North Coast Railroad Authority (NCRA),¹ filed an application under 49 U.S.C. 10903 requesting that the Surface Transportation Board (the Board) authorize the third-party, or “adverse,” discontinuance of operating authority held by Northwestern Pacific Railway Company (NWPY) over a GRTA rail line extending from milepost 142.5, at Outlet Station, to the end of the line at milepost 300.5,² on the Samoa Branch, including the Korblex Branch and the Carlotta Branch in Mendocino, Trinity, and Humboldt Counties, Cal.³ (the Line). The Line traverses U.S. Postal Service Zip Codes 95429, 95595, 95454, 95542, 95560, 95559, 95553, 95571, 95569, 95565, 95562, 95540, 95551, 95537, 95564, 95524, 95521, 95519, 95525, 95501, 95503, 95526, 95514, 95511, and 95490.

¹ GRTA notes its name was changed from NCRA to GRTA effective March 1, 2022. (GRTA Appl. 2 n.1.) The proceeding has been recaptioned accordingly.

² GRTA previously stated that it sought discontinuance of NWPY's operating authority to milepost 302.86. (Pet. 2.) However, the Board has since found that that the track extending between milepost 300.5 and milepost 302.86 is ancillary track that was never subject to the agency's regulatory authority. See N. Coast R.R. Auth.—Aban. Exemption—in Mendocino, Trinity, & Humboldt Cntys., Cal., AB 1305X, slip op. at 6 (STB served May 17, 2022).

³ In a separate docket, GRTA received authority to abandon approximately 169.61 miles extending between milepost 139.5, near Willits and milepost 284.1, near Eureka, including appurtenant branch lines extending to milepost 267.72 near Carlotta, milepost 295.57 near Korblex, and milepost 300.5 near Samoa. The Board noted, however, that GRTA may not consummate the abandonment until all operating authority on the Line has been terminated. See N. Coast R.R. Auth.—Aban. Exemption—in Mendocino, Trinity, & Humboldt Cntys., Cal., AB 1305X, slip op. at 4 n.6 (STB served May 20, 2022).

GRTA explains that it acquired the Line in 1992 from the Eureka Southern Railroad, see N. Coast R.R. Auth.—Acquis. & Operation Exemption—Eureka S. R.R., FD 32052 (ICC served Apr. 23, 1992), and that, thereafter, NWPY sought authority to lease and operate the Line, see Nw. Pac. Ry.—Lease & Operation Exemption—N. Coast R.R. Auth., FD 33998 (STB served Feb. 6, 2001). GRTA asserts that NWPY's lease terminated in 2005, that NWPY's business status is listed by the California secretary of state as “forfeited,” and that John Darling, NWPY's longtime principal and last stated agent for service of process, died in 2010.⁴ Thus, GRTA now seeks adverse discontinuance of NWPY's operating authority over the Line.

⁴ According to GRTA, NWPY never provided freight rail service or any other operations on the Line due to, among other things, an emergency order imposed by the Federal Railroad Administration prohibiting railroad operations on the Line. See Nw. Pac. R.R.; Emergency Ord. to Prevent Operation of Trains on Nw. Pac. R.R.'s Trackage from Arcata, Cal. to Milepost 63.4 Between Schellville & Napa Junction, Cal., 63 FR 67,976 (Dec. 9, 1998).

In a decision served in this proceeding on March 4, 2022, GRTA was granted exemptions from several statutory provisions as well as waivers of certain Board regulations that the Board concluded were inapplicable and unneeded in connection with GRTA's anticipated application.

According to GRTA, the Line may contain federally granted rights-of-way, and any documentation in GRTA's possession will be made available promptly to those requesting it. GRTA's entire case for discontinuance was filed with the application.

The interests of railroad employees will be protected by the conditions set forth in Oregon Short Line Railroad—Abandonment Portion Goshen Branch Between Firth & Ammon, in Bingham & Bonneville Counties, Idaho, 360 I.C.C. 91 (1979).

Any interested person may file comments concerning the proposed adverse discontinuance or protests (including protestant's entire opposition case) by July 22, 2022. Persons who may oppose the proposed adverse discontinuance but who do not wish to participate fully in the process by submitting verified statements of witnesses containing detailed evidence should file comments. Persons opposing the proposed adverse discontinuance who wish to participate actively and fully in the process should file a protest, observing the filing, service, and content requirements of 49 CFR 1152.25. GRTA's reply is due by August 8, 2022.

All pleadings, referring to Docket No. AB 1313, must be filed with the Surface Transportation Board via e-filing on the Board's website or in writing addressed to 395 E Street SW, Washington, DC 20423-0001. In addition, a copy of each pleading must be served on GRTA's representative, Charles H. Montange, Law Offices of Charles H. Montange, 426 NW 162nd Street, Seattle, WA 98177. Except as otherwise set forth in 49 CFR part 1152, every document filed with the Board must be served on all parties to this adverse discontinuance proceeding. 49 CFR 1104.12(a).

Persons seeking further information concerning discontinuance procedures may contact the Board's Office of Public Assistance, Governmental Affairs, and Compliance at (202) 245-0238 or refer to the full discontinuance regulations at 49 CFR part 1152. Assistance for the hearing impaired is available through the Federal Relay Service at (800) 877-8339.

Board decisions and notices are available at www.stb.gov.

Decided: June 17, 2022.
By the Board, Mai T. Dinh, Director, Office of Proceedings.
Regena Smith-Bernard,
Clearance Clerk.

[FR Doc. 2022-13670 Filed 6-24-22; 8:45 am]

BILLING CODE 4915-01-P